DEPARTMENT OF HEALTH AND HUMAN SERVICES (HHS)

Centers for Disease Control and Prevention (CDC)

Office of State, Tribal, Local and Territorial Support (OSTLTS)

In accordance with Presidential Executive Order No. 13175, November 6, 2000, and the Presidential Memorandum of November 5, 2009 and September 23, 2004, Consultation and Coordination with Indian Tribal Governments, CDC, OSTLTS announces the following meeting and Tribal Consultation Session:

Name: Tribal Consultation Advisory Committee (TCAC) Meeting and 6th Biannual Tribal Consultation Session

Times and Dates:

8:30 a.m.-5 p.m., February 1-2, 2011 (TCAC Meeting)

8:30 a.m.-5 p.m., February 3, 2011 (6th Biannual Tribal Consultation Session)

Place: CDC, 1600 Clifton Road, NE., Building 21, Atlanta, Georgia 30333.

Status: The TCAC meeting is open to the public. Attendance at the Tribal Consultation meeting is by special invitation to the American Indian/Alaska Native (AI/AN) Tribal Leaders from across the nation. Visitors must be processed in accordance with established federal policies and procedures. All visitors are required to present a valid form of picture identification issued by a state or federal government. The meeting room accommodates approximately 100 people.

Purpose: CDC released their Tribal Consultation Policy in October of 2005 with the primary purpose of providing guidance across the agency to work effectively with AI/AN tribes, communities, and organizations to enhance AI/AN access to CDC resources and programs. In November of 2006, an Agency Advisory Committee (CDC/Agency for Toxic Substances and Disease Registry Tribal Consultation Advisory Committee—TCAC) was established to provide a complementary venue wherein tribal representatives and CDC staff have the opportunity to exchange information about public health issues in Indian Country, identifying urgent public health needs in AI/AN communities, and discuss collaborative approaches to these issues and needs. Within the CDC Consultation Policy, it is stated that CDC will conduct government-to-government consultation with elected tribal officials or their designated representatives and also confer with AI/AN organizations and AI/AN urban and rural communities before taking actions and or making decisions that affect them. Consultation is designed to be an enhanced form of communication that emphasizes trust, respect, and shared responsibility. It is an open and free exchange of information and opinion among parties that leads to mutual understanding and comprehension. CDC believes that consultation is integral to a deliberative process that results in effective collaboration and informed decision making with the ultimate goal of reaching consensus on issues. Although formal responsibility for the agency's overall government-to-government consultation activities rests within the OSTLTS, leadership of other CDC Centers, Institutes and Offices shall actively participate in TCAC meetings and HHS-sponsored regional and national tribal consultation sessions as frequently as possible.

Matters to be Discussed: The TCAC will convene their advisory committee meeting with discussions and presentations by various CDC senior leaders on activities and areas identified by TCAC members and other tribal leaders as priority public health issues. The Biannual Tribal Consultation Session will engage CDC Senior leadership from the Office of the Director and various CDC Centers, Institutes and Offices. Opportunities will be provided during the consultation session for tribal testimony. Tribal Leaders are encouraged to submit written testimony by close of business on January 15, 2011, to the contact person listed below.

It may be necessary to limit the time of each presenter due to the availability of time.

The agenda is subject to change as priorities dictate.

Information on previous TCAC and Tribal Consultation meetings is available at web link http://www.cdc.gov/ostlts/tribal_public_health/index.html.

Contact Person for More Information: Kimberly Cantrell, Senior Tribal Liaison for Policy and Evaluation, OSTLTS, CDC, 4770 Buford Highway, MS E-19, Atlanta, Georgia 30341, telephone (404) 498-0411, e-mail: KLW6@cdc.gov.

The Director, Management Analysis and Services Office has been delegated the authority to sign Federal Register notices pertaining to announcements of meetings and other committee management activities, for both the Centers for Disease Control and Prevention, and the Agency for Toxic Substances and Disease Registry.

Dated: December 27, 2010.
Andre Tyler,
Acting Director, Management Analysis and Services Office Centers for Disease Control and Prevention.

[FR Doc. 2010-33126 Filed 1-3-11; 8:45 am]

BILLING CODE 4163-18-P